DEPARTMENT OF TRANSPORTATION

Federal Aviation Administration

Revised Notice of Land Use Change and Release of Grant Assurance Restrictions at the Sacramento International Airport (SMF), Sacramento, California

AGENCY: Federal Aviation Administration, DOT.

ACTION: Revised notice of a non-aeronautical land-use change.

SUMMARY: This Notice revises “Notice of Land Use Change and Release of Grant Assurance Restrictions at the Sacramento International Airport”, June 14, 2016, Page 38772. The previous Notice proposed to rule and invite public comment on the application for a land-use change for approximately 31.1 acres of airport property at Sacramento International Airport (SMF), California. The parcel size has changed from 31.1 acres to approximately 35.32 acres of airport property. The land use change will allow airport land to be released from the aeronautical use provisions of the Grant Assurances that require it to serve an airport purposes since the land is not needed for aeronautical uses. The reuse of the land for energy generating solar arrays represents a compatible land use that will not interfere with the airport or its operations. The solar generated electricity will benefit the airport by producing a market return on the land while reducing electrical costs. Cost savings will equal or exceed the fair market rental value of the land occupied by the solar farms. These benefits will serve the interest of civil aviation and contribute to the self-sustainability of the airport.

DATES: Comments must be received on or before October 30, 2017.

FOR FURTHER INFORMATION CONTACT: Comments on the request may be mailed or delivered to the FAA at the following address: Mr. James W. Lomen, Manager, Federal Aviation Administration, San Francisco Airports District Office, Federal Register Comment, 1000 Marina Boulevard, Suite 220, Brisbane, CA 94005. In addition, one copy of the comment submitted to the FAA must be mailed or delivered to Mr. Glen Rickelton, Airport Manager, Sacramento International Airport, 6900 Airport Boulevard, Sacramento, CA 95837.

SUPPLEMENTARY INFORMATION: In accordance with the Wendell H. Ford Aviation Investment and Reform Act for the 21st Century (AIR 21), Public Law 106-181 (Apr. 5, 2000; 114 Stat. 61), this notice must be published in the Federal Register 30 days before the Secretary may waive any condition imposed on a federally obligated airport by surplus property conveyance deeds or grant agreements.

The following is a brief overview of the request:

The County of Sacramento, California request for a modification to the conditions in the Grant Assurances to permit the non-aeronautical use of approximately 31.1 acres of land at Sacramento International Airport for two separate solar array sites to produce solar generated electricity was revised from 31.1 acres to approximately 35.3 acres of airport land. One solar array site was changed from 16.3 acres to 20.3 acres of unimproved land located in the north portion of the airfield, west of Taxiway D. The other solar array site was changed from 14.8 acres to 15.0 acres of an unused parking area between Aviation Drive and Taxiway D in the south portion of the airfield. The size of the solar arrays did not change. Reuse of the land for the solar arrays will not impede future development of the airport as there is sufficient land for airport development. The lease rate is based on the appraised market value of the land. Compensation will be in the form of a reduced electrical rate that will produce cost savings that equals or exceeds the appraised market value of the land. The use of the property for the solar arrays represents a compatible use. Construction and operations of the solar arrays will not interfere with airport operations. The solar arrays will reduce airport operational costs, which will enhance the self-sustainability of the airport and, thereby, serve the interest of civil aviation.

Issued in Brisbane, California, on September 21, 2017.
James W. Lomen,
Manager, San Francisco Airports District Office, Western-Pacific Region.

[FR Doc. 2017-20851 Filed 9-27-17; 8:45 am]

BILLING CODE 4910-13-P